DEPARTMENT OF THE INTERIOR

National Park Service

[NPS-WASO-NAGPRA-NPS0030270; PPWOCRADN0-PCU00RP14.R50000]

Notice of Inventory Completion: Sandusky Library, Sandusky, OH

AGENCY: National Park Service, Interior.

ACTION: Notice.

SUMMARY: The Sandusky Library has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Sandusky Library. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Sandusky Library at the address in this notice by September 10, 2020.

ADDRESSES: Jeremy Angstadt, Sandusky Library, 114 West Adams Street, Sandusky, OH 44870; telephone (419) 625-3834, email jangstadt@sanduskylib.org.

SUPPLEMENTARY INFORMATION: Notice is here given in accordance with the Native American Graves Protection and Repatriation Act (NAGPRA), 25 U.S.C. 3003, of the completion of an inventory of human remains and associated funerary objects under the control of the Sandusky Library, Sandusky, OH. The human remains and associated funerary associated objects were removed from Mills Creek, Erie County, OH.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Sandusky Library professional staff in consultation with representatives of the Delaware Nation, Oklahoma; Shawnee Tribe; Stockbridge Munsee Community, Wisconsin; and the Wyandotte Nation (hereafter referred to as “The Consulted Tribes”). The following Indian Tribes were also invited to consult but did not participate: Absentee-Shawnee Tribe of Indians of Oklahoma; Delaware Tribe of Indians; Eastern Shawnee Tribe of Oklahoma; Forest County Potawatomi Community, Wisconsin; Hannahville Indian Community, Michigan; Little River Band of Ottawa Indians, Michigan; Little Traverse Bay Bands of Odawa Indians, Michigan; Miami Tribe of Oklahoma; Ottawa Tribe of Oklahoma; Peoria Tribe of Indians of Oklahoma; Seneca-Cayuga Nation (previously listed as Seneca-Cayuga Tribe of Oklahoma); and Seneca Nation of Indians (previously listed as Seneca Nation of New York) (hereafter referred to as “The Invited Tribes”).

History and Description of the Remains

Between 1860 and 1870, human remains representing, at minimum, one individual were removed from the bank of Mills Creek in Erie County, OH, by Henry and William Graefe. The human remains remained part of the Graefes' personal collection until 1978, when their descendants, Alice and Henry Graefe, donated their personal collection to the Sandusky Library. No known individuals were identified. The 11 associated funerary objects are five shells, four pottery fragments, and two clay beads.

Determinations Made by the Sandusky Library

Officials of the Sandusky Library have determined that:

• Pursuant to 25 U.S.C. 3001(9), the human remains described in this notice are Native American based on information provided by the donors to the Sandusky Library.

• Pursuant to 25 U.S.C. 3001(9), the human remains described in this notice represent the physical remains of one individual of Native American ancestry.

• Pursuant to 25 U.S.C. 3001(3)(A), the 11 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of Delaware Nation, Oklahoma; Delaware Tribe of Indians; Forest County Potawatomi Community, Wisconsin; Hannahville Indian Community, Michigan; Little River Band of Ottawa Indians, Michigan; Little Traverse Bay Bands of Odawa Indians, Michigan; Ottawa Tribe of Oklahoma; and the Wyandotte Nation.

• Treaties, Acts of Congress, or Executive Orders, indicate that the land from which the Native American human remains and associated funerary objects were removed is the aboriginal land of Absentee-Shawnee Tribe of Indians of Oklahoma; Eastern Shawnee Tribe of Oklahoma; Shawnee Tribe; and Stockbridge Munsee Community, Wisconsin.

• Pursuant to 43 CFR 10.11(c)(1), the disposition of the human remains and associated funerary objects may be to the Absentee-Shawnee Tribe of Indians of Oklahoma; Delaware Nation, Oklahoma; Delaware Tribe of Indians; Eastern Shawnee Tribe of Oklahoma; Forest County Potawatomi Community, Wisconsin; Hannahville Indian Community, Michigan; Little River Band of Ottawa Indians, Michigan; Little Traverse Bay Bands of Odawa Indians, Michigan; Ottawa Tribe of Oklahoma; Shawnee Tribe; Stockbridge Munsee Community, Wisconsin; and the Wyandotte Nation (hereafter referred to as “The Aboriginal Land Tribes”).

Additional Requestors and Disposition

Representatives of any Indian Tribe or Native Hawaiian organization not identified in this notice that wish to request transfer of control of these human remains and associated funerary objects should submit a written request with information in support of the request to Jeremy Angstadt, Sandusky Library, 114 West Adams Street, Sandusky, OH 44870, telephone (419) 625-3834, email jangstadt@sanduskylib.org, by September 10, 2020. After that date, if no additional requestors have come forward, transfer of control of the human remains and associated funerary objects to The Aboriginal Land Tribes may proceed.

The Sandusky Library is responsible for notifying The Consulted Tribes and The Invited Tribes that this notice has been published.

Dated: July 7, 2020.
Melanie O'Brien,
Manager, National NAGPRA Program.

[FR Doc. 2020-17485 Filed 8-10-20; 8:45 am]

BILLING CODE 4312-52-P